DEPARTMENT OF ENERGY

Federal Energy Regulatory Commission

[Docket No. EC04-51-000, et al.]

Westar Energy, Inc., et al.; Electric Rate and Corporate Filings

January 21, 2004.

The following filings have been made with the Commission. The filings are listed in ascending order within each docket classification.

1. Westar Energy, Inc. and Kaw Valley Electric Cooperative, Inc.

[Docket No. EC04-51-000]

Take notice that on January 13, 2004, Westar Energy, Inc. (Westar Energy) and Kaw Valley Electric Cooperative, Inc. (Kaw Valley), filed an application with the Federal Energy Regulatory Commission (Commission) pursuant to Section 203 of the Federal Power Act, 16 U.S.C. 824b, and Part 33 of the Commission regulations, 18 CFR part 33. Westar Energy requests authorization and approval of the sale by Westar Energy of certain jurisdictional transmission assets located in the State of Kansas to Kaw Valley.

Comment Date: February 3, 2004.

2. Frederickson Power L.P. and Puget Sound Energy, Inc.

[Docket No. EC04-53-000]

Take notice that on January 14, 2004, Frederickson Power L.P. (Frederickson) and Puget Sound Energy, Inc. (PSE) (collectively, the Applicants) filed with the Federal Energy Regulatory Commission pursuant to section 203 of the Federal Power Act (the FPA), 16 U.S.C. 824b, and Part 33 of the Commission's regulations, 18 CFR part 33, an application for authorization of a disposition of jurisdiction facilities relating to the sale of a 249 MW generating facility by Frederickson to PSE. The Applicants request confidential treatment of certain portions of the Purchase and Sale Agreement relating to the proposed transaction, and have provided redacted versions that omit privileged information.

Comment Date: February 4, 2004.

3. California Independent System Operator Corporation

[Docket No. ER02-1656-018]

Take notice that on January 16, 2004, the California Independent System Operator Corporation (CAISO) tendered for filing its Response to a letter request from Jamie Simler, Director, Division of Tariffs and Market Development—West, issued on December 16, 2003 in the captioned proceeding.

The CAISO states that copies of this filing were served upon all parties designated on the official service list compiled by the Secretary in this proceeding.

Comment Date: January 30, 2004.

4. San Diego Gas & Electric Company

[Docket No. ER03-601-002]

Take notice that on January 13, 2004, San Diego Gas & Electric Company (SDG&E) tendered for filing its redesignated Transmission Owner Tariff (TO Tariff), FERC Electric Tariff, Original Volume No. 11 and the first revised rate sheets for its TO Tariff. SDG&E states that the purpose of this filing is to comply with the Federal Energy Regulatory Commission's Order rendered in Docket No. ER03-601 on December 18, 2003.

SDG&E states that copies of this filing were served upon the Service List complied by the Secretary in this docket.

Comment Date: February 3, 2004.

5. Pacific Gas and Electric Company

[Docket No. ER04-400-000]

Take notice that on January 14, 2004, Pacific Gas and Electric Company (PG&E) tendered for filing Generator Special Facilities Agreement (GSFA), and Generator Interconnection Agreement (GIA) between PG&E and Mirant Delta, LLC (Mirant), El Dorado Irrigation District (El Dorado), and Midway Sunset Cogeneration Company (Midway Sunset) (collectively, Parties), and Notice of Termination of PG&E Service Agreement No. 51, under FERC Electric Tariff, Sixth Revised Volume No. 5.

PG&E states that copies of this filing have been served upon Mirant, El Dorado, Midway Sunset, the California Independent System Operator Corporation and the California Public Utilities Commission.

Comment Date: February 4, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-143 Filed 1-28-04; 8:45 am]

BILLING CODE 6717-01-P